DEPARTMENT OF TRANSPORTATION

Federal Highway Administration

Environmental Impact Statement; South Carolina

AGENCY: Federal Highway Administration (FHWA), DOT.

ACTION: Notice of intent.

SUMMARY: The FHWA is issuing this notice to advise the public that an environmental impact statement will be prepared for the proposed Interstate 73 (I-73) highway project in eastern South Carolina.

FOR FURTHER INFORMATION CONTACT: Mr. Patrick L. Tyndall, Environmental Program Manager, Federal Highway Administration, 1835 Assembly Street, Suite 1270, Columbia, South Carolina 29201; Telephone (803) 765-5411; email: Patrick.tyndall@fhwa.dot.gov.

SUPPLEMENTARY INFORMATION: The FHWA, in cooperation with the South Carolina Department of Transportation (SCDOT), will prepare an environmental impact statement (EIS) on the proposed I-73 project. The proposed interstate highway is ultimately planned to connect to I-73 in North Carolina and would enter South Carolina near Marlboro County. The portion of the roadway to be evaluated in this proposed EIS is the portion from the vicinity of I-95, southeast to the Conway/Myrtle Beach area, a distance of approximately 60 miles. The proposed study area includes Dillon, Marion, and Horry Counties.

Improvements to the corridor are considered necessary to improve national and regional connectivity to the Conway/Myrtle Beach area of South Carolina by providing a direct interstate link. This link will enhance economic opportunities and tourism in South Carolina. The proposed project would fulfill part of the congressional intent, as originally proposed in the Intermodal Surface Transportation Efficiency Act (ISTEA) of 1991 and confirmed in the Transportation Equity Act (TEA-21) of 1998. The proposed action will also facilitate a more effective evacuation of the Conway/Myrtle Beach area during emergencies. Alternatives to be evaluated include the no action alternative, the upgrade of existing roads, construction on new alignment, and combinations of upgrades and new alignments.

The FHWA and SCDOT are seeking input as a part of the scoping process to assist in identifying issues relative to this project. Letters describing the proposed action and soliciting comments will be sent to appropriate Federal, State, and local agencies, and to private organizations and citizens who have previously expressed or are known to have interest in this proposal. An interagency coordination process will begin soon, with the invitations to Cooperating Agencies and a formal scoping meeting to occur in the late summer of 2004. A public involvement plan is being developed for this project and will include a variety of opportunities for interested parties to be involved in the project. Two public interest group/public scoping meetings will be held in September 2004 at different locations in eastern South Carolina. These meetings will be well publicized in advance, giving the location and time for each meeting. Additional coordination with the public, public interest groups, elected officials, and state and federal agencies will be performed between September 2004 and July 2006. The draft EIS will be available for public and agency review and comment prior to the public hearing.

To ensure that the full range of issues related to this proposed action are addressed and all significant issues identified, comments and suggestions are invited from all interested parties. Comments or questions concerning this proposed action and the EIS should be directed to the FHWA at the address provided above.

(Catalog of Federal Domestic Assistance Program Number 20.205, Highway Research Planning and Construction. The regulation implementing Executive Order 12372 regarding intergovernmental consultation on Federal programs and activities apply to this program.)

Issued on: August 3, 2004.
Robert D. Thomas,
Acting Division Administrator, Federal Highway Administration, Columbia, South Carolina.

[FR Doc. 04-18113 Filed 8-6-04; 8:45 am]

BILLING CODE 4910-22-P